DEPARTMENT OF TRANSPORTATION

Office of the Secretary

Aviation Proceedings, Agreements Filed the Week Ending March 19, 2004

The following Agreements were filed with the Department of Transportation under the provisions of 49 U.S.C. Sections 412 and 414. Answers may be filed within 21 days after the filing of the application.

Docket Number: OST-2004-17342.

Date Filed: March 15, 2004.

Parties: Members of the International Air Transport Association.

Subject:

Mail Vote 366,

PTC12 NMS-AFR 0186 dated 16 March 2004,

PTC12 Special Passenger Amending Resolution between South Atlantic and Africa r1-r2,

Intended effective date: 01 May 2004

Docket Number: OST-2004-17368.

Date Filed: March 19, 2004.

Parties: Members of the International Air Transport Association.

Subject:

Mail Vote 367,

PTC23 AFR-TC3 0216 dated 23 March 2004,

Special Passenger Amending Resolution 010n between Africa and TC3 r1-r35,

Intended effective date: 01 April 2004

Docket Number: OST-2004-17369.

Date Filed: March 19, 2004.

Parties: Members of the International Air Transport Association.

Subject:

PTC2 EUR-AFR 0189 dated 02 March 2004,

PTC2 Europe-Africa Resolutions r1-r28,

PTC2 EUR-AFR 0191 dated 09 March 2004,

Technical Corrections to Resolutions 002 and 072mw,

PTC2 EUR-AFR 0193 dated 19 March 2004,

Technical Corrections to Resolution 084ss,

PTC2 EUR-AFR 0192 dated 19 March 2004,

PTC2 EUR-AFR 0112 dated 09 March 2004,

Intended effective date: 01 May 2004

Andrea M. Jenkins,
Program Manager, Docket Operations, Federal Register Liaison.

[FR Doc. 04-7108 Filed 3-30-04; 8:45 am]

BILLING CODE 4910-62-P